DEPARTMENT OF HOMELAND SECURITY

Federal Emergency Management Agency

[Docket ID FEMA-2013-0002; Internal Agency Docket No. FEMA-B-1292]

Proposed Flood Hazard Determinations

AGENCY: Federal Emergency Management Agency, DHS.

ACTION: Notice.

SUMMARY: Comments are requested on proposed flood hazard determinations, which may include additions or modifications of any Base Flood Elevation (BFE), base flood depth, Special Flood Hazard Area (SFHA) boundary or zone designation, or regulatory floodway on the Flood Insurance Rate Maps (FIRMs), and where applicable, in the supporting Flood Insurance Study (FIS) reports for the communities listed in the table below. The purpose of this notice is to seek general information and comment regarding the preliminary FIRM, and where applicable, the FIS report that the Federal Emergency Management Agency (FEMA) has provided to the affected communities. The FIRM and FIS report are the basis of the floodplain management measures that the community is required either to adopt or to show evidence of having in effect in order to qualify or remain qualified for participation in the National Flood Insurance Program (NFIP). In addition, the FIRM and FIS report, once effective, will be used by insurance agents and others to calculate appropriate flood insurance premium rates for new buildings and the contents of those buildings.

DATES: Comments are to be submitted on or before April 29, 2013.

ADDRESSES: The Preliminary FIRM, and where applicable, the FIS report for each community are available for inspection at both the online location and the respective Community Map Repository address listed in the tables below. Additionally, the current effective FIRM and FIS report for each community are accessible online through the FEMA Map Service Center at www.msc.fema.gov for comparison.

You may submit comments, identified by Docket No. FEMA-B-1292, to Luis Rodriguez, Chief, Engineering Management Branch, Federal Insurance and Mitigation Administration, FEMA, 500 C Street SW., Washington, DC 20472, (202) 646-4064, or (email) Luis.Rodriguez3@fema.dhs.gov.

FOR FURTHER INFORMATION CONTACT: Luis Rodriguez, Chief, Engineering Management Branch, Federal Insurance and Mitigation Administration, FEMA, 500 C Street SW., Washington, DC 20472, (202) 646-4064, or (email) Luis.Rodriguez3@fema.dhs.gov; or visit the FEMA Map Information eXchange (FMIX) online at www.floodmaps.fema.gov/fhm/fmx_main.html.

SUPPLEMENTARY INFORMATION: FEMA proposes to make flood hazard determinations for each community listed below, in accordance with section 110 of the Flood Disaster Protection Act of 1973, 42 U.S.C. 4104, and 44 CFR 67.4(a).

These proposed flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. These flood hazard determinations are used to meet the floodplain management requirements of the NFIP and also are used to calculate the appropriate flood insurance premium rates for new buildings built after the FIRM and FIS report become effective.

The communities affected by the flood hazard determinations are provided in the tables below. Any request for reconsideration of the revised flood hazard information shown on the Preliminary FIRM and FIS report that satisfies the data requirements outlined in 44 CFR 67.6(b) is considered an appeal. Comments unrelated to the flood hazard determinations also will be considered before the FIRM and FIS report become effective.

Use of a Scientific Resolution Panel (SRP) is available to communities in support of the appeal resolution process. SRPs are independent panels of experts in hydrology, hydraulics, and other pertinent sciences established to review conflicting scientific and technical data and provide recommendations for resolution. Use of the SRP only may be exercised after FEMA and local communities have been engaged in a collaborative consultation process for at least 60 days without a mutually acceptable resolution of an appeal. Additional information regarding the SRP process can be found online at http://floodsrp.org/pdfs/srp_fact_sheet.pdf.

The watersheds and/or communities affected are listed in the tables below. The Preliminary FIRM, and where applicable, FIS report for each community are available for inspection at both the online location and the respective Community Map Repository address listed in the tables. Additionally, the current effective FIRM and FIS report for each community are accessible online through the FEMA Map Service Center at www.msc.fema.gov for comparison.

Community | Community map repository address
LaSalle County, Illinois, and Incorporated Areas
Maps Available for Inspection Online at: www.starr-team.com/starr/RegionalWorkspaces/RegionV/LaSalleILPMR
City of Mendota | City Hall, 800 Washington Street, Mendota, IL 61342.
Unincorporated Areas of LaSalle County | LaSalle County Courthouse, Environmental Services and Land Use Department, 119 West Madison Street, Ottawa, IL 61350.
Orange County, Indiana, and Incorporated Areas
Maps Available for Inspection Online at: http://www.in.gov/dnr/water/7498.htm
Town of French Lick | Town Hall, 8587 West Main Street, French Lick, IN 47432.
Town of Paoli | Town Hall, 110 North Gospel Street, Paoli, IN 47454.
Town of West Baden Springs | Town Hall, 8361 West State Road 56, West Baden Springs, IN 47469.
Unincorporated Areas of Orange County | Orange County Emergency Management, Orange County Courthouse, 205 East Main Street, Paoli, IN 47454.
Perry County, Indiana, and Incorporated Areas
Maps Available for Inspection Online at: http://www.in.gov/dnr/water/7497.htm
City of Cannelton | City Hall, 210 South 8th Street, Cannelton, IN 47520.
City of Tell City | Planning and Zoning, City Hall, 700 Main Street, Tell City, IN 47586.
Town of Troy | Town Hall, 330 Harrison Street, Troy, IN 47588.
Unincorporated Areas of Perry County | Perry County Courthouse, 2219 Payne Street, Tell City, IN 47586.
Scott County, Indiana, and Incorporated Areas
Maps Available for Inspection Online at: http://www.in.gov/dnr/water/7480.htm
City of Austin | City Hall, 80 West Main Street, Austin, IN 47102.
City of Scottsburg | Scott County Area Plan Commission, 1 East McClain Avenue, Suite G40, Scottsburg, IN 47170.
Unincorporated Areas of Scott County | Scott County Area Plan Commission, 1 East McClain Avenue, Suite G40, Scottsburg, IN 47170.
Pike County, Indiana, and Incorporated Areas
Maps Available for Inspection Online at: http://www.in.gov/dnr/water/7496.htm
City of Petersburg | City Hall, 704 East Main Street, Petersburg, IN 47567.
Town of Winslow | Town Hall, 301 North Main Street, Winslow, IN 47598.
Unincorporated Areas of Pike County | Pike County Courthouse, 801 Main Street, Petersburg, IN 47567.
Spencer County, Indiana, and Incorporated Areas
Maps Available for Inspection Online at: http://www.in.gov/dnr/water/7495.htm
City of Rockport | City Hall, 426 Main Street, Rockport, IN 47635.
Town of Grandview | Town Hall, 316 Main Street, Grandview, IN 47615.
Town of Richland | Town of Richland, 4259 North State Road 161, Richland, IN 47634.
Town of Santa Claus | Town Hall, 90 North Holiday Boulevard, Santa Claus, IN 47579.
Unincorporated Areas of Spencer County | Spencer County Plan Commission, Spencer County Courthouse, Room 12, 200 Main Street, Rockport, IN 47635.
Starke County, Indiana, and Incorporated Areas
Maps Available for Inspection Online at: http://www.in.gov/dnr/water/7356.htm
City of Knox | 101 West Washington Street, Knox, IN 46534.
Town of North Judson | 204 Keller Avenue, North Judson, IN 46366.
Unincorporated Areas of Starke County | 53 East Mound Street, Knox, IN 46534.
Switzerland County, Indiana, and Incorporated Areas
Maps Available for Inspection Online at: http://www.in.gov/dnr/water/7342.htm
Town of Patriot | Switzerland County Courthouse, 212 West Main Street, Vevay, IN 47043.
Town of Vevay | Switzerland County Courthouse, 212 West Main Street, Vevay, IN 47043.
Unincorporated Areas of Switzerland County | Switzerland County Courthouse, 212 West Main Street, Vevay, IN 47043.
Wells County, Indiana, and Incorporated Areas
Maps Available for Inspection Online at: http://www.in.gov/dnr/water/7358.htm
City of Bluffton | Wells County Area Plan Commission, 223 West Washington Street, Room 211, Bluffton, IN 46714.
Town of Markle | Huntington Department of Community Development, Huntington County Courthouse, Room 210, 201 North Jefferson Street, Huntington, IN 46750.
Town of Ossian | Wells County Area Plan Commission, 223 West Washington Street, Room 211, Bluffton, IN 46714.
Town of Vera Cruz | Wells County Area Plan Commission, 223 West Washington Street, Room 211, Bluffton, IN 46714.
Town of Zanesville | Wells County Area Plan Commission, 223 West Washington Street, Room 211, Bluffton, IN 46714.
Unincorporated Areas of Wells County | Wells County Area Plan Commission, 223 West Washington Street, Room 211, Bluffton, IN 46714.
Marquette County, Michigan (All Jurisdictions)
Maps Available for Inspection Online at: http://www.starr-team.com/starr/RegionalWorkspaces/RegionV/MarquetteCoMI/SitePages/Home.aspx
Charter Township of Chocolay | Chocolay Township Office, 5010 U.S. Highway 41 South, Marquette, MI 49855.
Charter Township of Marquette | Township Hall, 161 County Road 492, Marquette, MI 49855.
City of Marquette | City Hall, 300 West Baraga Avenue, Marquette, MI 49855.
Township of Ely | Ely Township Hall, 1555 County Road 496, Ishpeming, MI 49849.
Township of Powell | Powell Township Hall, 101 Bensinger Street, Big Bay, MI 49808.
Township of Sands | Sands Township Hall, 987 South Michigan Route 553, Gwinn, MI 49841.
Township of Skandia | Township Hall, 224 Kreiger Drive, Skandia, MI 49885.
Township of West Branch | West Branch Township Hall, 1016 County Road 545 North, Skandia, MI 49885.
Washington County, Ohio, and Incorporated Areas
Maps Available for Inspection Online at: http://www.starr-team.com/starr/RegionalWorkspaces/RegionV/WashingtonOH-PMR/Preliminary%20Maps/Forms/AllItems.aspx
City of Marietta | Engineering Department, 304 Putnam Street, Marietta, OH 45750.
Unincorporated Areas of Washington County | Washington County Building Department, 217 Putnam Street, Marietta, OH 45750.
Dodge County, Wisconsin, and Incorporated Areas
Maps Available for Inspection Online at: http://www.starr-team.com/starr/RegionalWorkspaces/RegionV/FoxLakeDodgeCoWIPMR/Lists/Prelim_Maps/AllItems.aspx
City of Fox Lake | City Hall, 248 East State Street, Fox Lake, WI 53933.
Unincorporated Areas of Dodge County | Administration Building, 127 East Oak Street, Juneau, WI 53039.
Waukesha County, Wisconsin, and Incorporated Areas
Maps Available for Inspection Online at: www.starr-team.com/starr/RegionalWorkspaces/RegionV/BarkRiverWaukeshaWIPMR
City of Delafield | City Hall, 500 Genesee Street, Delafield, WI 53018.
Unincorporated Areas of Waukesha County | Waukesha County Administration Center, 515 West Moreland Boulevard, Waukesha, WI 53188.
Village of Dousman | Village Hall, 118 South Main Street, Dousman, WI 53118.
Village of Hartland | Village Hall, 210 Cottonwood Avenue, Hartland, WI 53029.
Village of Merton | Village Hall, N67W28343 Sussex Road, Merton, WI 53056.
Village of Nashotah | Village Hall, N44W32950 Watertown Plank Road, Nashotah, WI 53058.
Village of Summit | Village Hall, 2911 North Dousman Road, Oconomowoc, WI 53066.

(Catalog of Federal Domestic Assistance No. 97.022, “Flood Insurance.”)

James A. Walke,
Acting Deputy Associate Administrator for Mitigation, Department of Homeland Security, Federal Emergency Management Agency.

[FR Doc. 2013-01628 Filed 1-25-13; 8:45 am]

BILLING CODE 9110-12-P